DEPARTMENT OF HEALTH AND HUMAN SERVICES

National Institutes of Health

National Heart, Lung, and Blood Institute; Amended Notice of Meeting

Notice is hereby given of a change in the meeting of the National Heart, Lung, and Blood Institute Special Emphasis Panel, October 1, 2002, 7:30 p.m. to October 2, 2002, 5 p.m. Hyatt Regency Bethesda, One Bethesda Metro Center, Bethesda, MD 20814 which was published in the Federal Register on July 26, 2002, FR 67 48929.

The meeting date will change to November 12, 2002, 7:30 p.m. to November 13, 2002, 5 p.m., and the meeting location will change to the Bethesda Marriott Suites, 6711 Democracy Boulevard, Bethesda, Maryland, 20817. The meeting is closed to the public.

Dated: August 9, 2002.
LaVerne Y. Stringfield,
Director, Office of Federal Advisory Committee Policy.

[FR Doc. 02-20850 Filed 8-15-02; 8:45 am]

BILLING CODE 4140-01+M